DEPARTMENT OF ENERGY

Federal Energy Regulatory Commission

[Docket No. OR03-6-000]

Sinclair Oil Corporation, Complainant, v. ChevronTexaco Pipeline Company, Respondent; Notice of Complaint Requesting Fast Track Processing

August 7, 2003.

Take notice that on August 6, 2003, Sinclair Oil Corporation (Sinclair) tendered for filing a Complaint Requesting Fast Track Processing against ChevronTexaco Pipeline Company (CPL).

Sinclair states that it is an interstate shipper of jet fuel on a pipeline that CPL owns and operates between Salt Lake Station, Davis County, Utah and Salt Lake Municipal Airport, Salt Lake City, Utah. Sinclair alleges that the CPL pipeline is necessarily engaged in interstate commerce and is therefore subject to FERC regulation, and that CPL is obligated to file a tariff with FERC with respect to that pipeline in accordance with section 342.2 of the Commission's regulations. Sinclair alleges that CPL has violated the Interstate Commerce Act by failing to file a tariff with the Commission for this pipeline.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: August 26, 2003.

Linda Mitry,
Acting Secretary.

[FR Doc. 03-20966 Filed 8-15-03; 8:45 am]

BILLING CODE 6717-01-P